DEPARTMENT OF COMMERCE

National Oceanic and Atmospheric Administration

50 CFR Part 648

[I.D. 101403A]

New England Fishery Management Council; Public Meeting

AGENCY: National Marine Fisheries Service (NMFS), National Oceanic and Atmospheric Administration (NOAA), Commerce.

ACTION: Public meeting.

SUMMARY: The New England Fishery Management Council (Council) will hold a 3-day Council meeting on November 4-6, 2003, to consider actions affecting New England fisheries in the exclusive economic zone (EEZ).

DATES: The meeting will be held on Tuesday, November 4, 2003, beginning at 9 a.m. and on Wednesday and Thursday November 5 and 6, beginning at 8:30 a.m.

ADDRESSES: The meeting will be held at the Holiday Inn, One Newbury Street, Peabody, MA 01960; telephone (978) 535-4600. Requests for special accommodations should be addressed to the New England Fishery Management Council, 50 Water Street, Mill 2, Newburyport, MA 01950; telephone (978) 465-0492.

FOR FURTHER INFORMATION CONTACT: Paul J. Howard, Executive Director, New England Fishery Management Council, (978) 465-0492.

SUPPLEMENTARY INFORMATION:

Tuesday, Wednesday, and Thursday, November 4-6, 2003

Following introductions, the Council will receive reports on recent activities from the Council Chairman and Executive Director, the NMFS Regional Administrator, Northeast Fisheries Science Center and Mid-Atlantic Fishery Management Council liaisons, NOAA General Counsel and representatives of the U.S. Coast Guard, NMFS Enforcement and the Atlantic States Marine Fisheries Commission. For the remainder of the day the Council will focus on discussion, selection, and approval of final management measures for inclusion in Amendment 13 to the Northeast Multispecies Fishery Management Plan (FMP). This process will continue through mid-day on Wednesday, November 5. At that time the Council has scheduled an open period for public comment on items relevant to Council business, but not otherwise listed on the agenda. The Council will then continue with the Amendment 13 decision-making process through Thursday, November 6. During the afternoon session on November 6 the Council will consider initial action on a framework adjustment that would allow limited access scallop vessels to fish in the Georges Bank areas now closed to protect groundfish. Framework Adjustment 16 to the Sea Scallop FMP/Framework Adjustment 39 to the Northeast Multispecies FMP could include Total Allowable Catch and possession limits for finfish, seasonal access, gear modifications, mandatory observer coverage and other measures to minimize bycatch. The meeting will adjourn once any other business-related issues have been addressed.

Although other non-emergency issues not contained in this agenda may come before this Council for discussion, those issues may not be the subjects of formal action during this meeting. Council action will be restricted to those issues specifically listed in this notice and any issues arising after publication of this notice that require emergency action under section 305(c) of the Magnuson-Stevens Fishery Conservation and Management Act, provided that the public has been notified of the Council's intent to take final action to address the emergency.

Special Accommodations

This meeting is physically accessible to people with disabilities. Requests for sign language interpretation or other auxiliary aids should be directed to Paul J. Howard (see ADDRESSES) at least 5 days prior to the meeting date.

Dated: October 14, 2003.
Bruce C. Morehead,
Acting Director, Office of Sustainable Fisheries, National Marine Fisheries Service.

[FR Doc. 03-26395 Filed 10-17-03; 8:45 am]

BILLING CODE 3510-22-S